DEPARTMENT OF ENERGY

Federal Energy Regulatory Commission

Notice of Filings

Wednesday, June 1, 2005.

Take notice that the Commission received the following electric rate filings:

Docket Numbers: ER04-170-006; ER05-1027-000.

Applicants: MxEnergy Electric Inc.

Description: MxEnergy Electric Inc submits its Substitute Second Revised Sheet No. 3, which revises paragraph 8 of its FERC Electric Rate Schedule No. 1 and a Notice of Succession of Total Gas & Electricity (PA) Inc.'s Rate Schedule No. 2.

Filed Date: 5/26/2005.

Accession Number: 20050531-0127.

Comment Date: 5 p.m. Eastern Time on Thursday, June 16, 2005.

Docket Numbers: ER05-644-002.

Applicants: PSEG Energy Resources & Trade LLC and PSEG Fossil Fossil LLC.

Description: PSEG Energy Resources & Trade LLC submits Substitute Original Sheet No. 1, et al., to FERC Electric Tariff, Original Volume 1 in compliance with FERC's Order issued 4/25/05 under ER05-644.

Filed Date: 5/25/2005.

Accession Number: 20050531-0128.

Comment Date: 5 p.m. Eastern Time on Wednesday, June 15, 2005.

Docket Numbers: ER05-1018-000.

Applicants: Midwest Independent Transmission System Operator, Inc.

Description: Midwest Independent Transmission System Operator, Inc. submits a Large Generator Interconnection Agreement among the PPM Energy, Inc., itself, and Northern States Power Company dba Xcel Energy under ER05-1018.

Filed Date: 5/25/2005.

Accession Number: 20050526-0217.

Comment Date: 5 p.m. Eastern Time on Wednesday, June 15, 2005.

Docket Numbers: ER05-1019-000.

Applicants: Nevada Power Company.

Description: Nevada Power Company submits a Notice of Cancellation of an Agreement for Long-Term Firm Point-to-Point Transmission Service Between Nevada Power Company and Duke Energy Trading and Marketing—Service Agreement No. 97.

Filed Date: 5/26/2005.

Accession Number: 20050531-0123.

Comment Date: 5 p.m. Eastern Time on Thursday, June 16, 2005.

Docket Numbers: ER05-1020-000.

Applicants: WASP Energy, LLC.

Description: WASP Energy, LLC's petition for acceptance of initial rate schedule (FERC Electric Rate Schedule 1), waivers and blanket authority under ER05-1020.

Filed Date: 5/26/2005.

Accession Number: 20050531-0122.

Comment Date: 5 p.m. Eastern Time on Thursday, June 16, 2005.

Docket Numbers: ER05-1021-000.

Applicants: Pacific Gas & Electric Company.

Description: Pacific Gas and Electric Company submits Agreements between Pacific Gas and Electric Company and the City and County of San Francisco PUC for the interconnection of the San Francisco Airport Electric Reliability Project under ER05-1021.

Filed Date: 5/26/2005.

Accession Number: 20050531-0134.

Comment Date: 5 p.m. Eastern Time on Thursday, June 16, 2005.

Docket Numbers: ER05-1022-000.

Applicants: ISO New England Inc. and New England Power Pool.

Description: ISO New England, Inc. and New England Power Pool submits proposed market rule changes to modify the existing methodology for allocating surplus Transmission Congestion Revenue and to conform certain market monitoring definitions used in Market Rule 1 to the terminology that has been adopted as part of the RTO process under ER05-1022.

Filed Date: 5/25/2005.

Accession Number: 20050531-0120.

Comment Date: 5 p.m. Eastern Time on Wednesday, June 15, 2005.

Docket Numbers: ER05-1023-000.

Applicants: TransAlta Centralia Generation L.L.C.

Description: TransAlta Centralia Generation, L.L.C. submits FERC Electric Rate Schedule 2 for Reactive Supply and Voltage Control from Generation Sources Service that it provides to Bonneville Power Administration from its Big Hanaford generating plant under ER05-1023.

Filed Date: 5/26/2005.

Accession Number: 20050531-0124.

Comment Date: 5 p.m. Eastern Time on Thursday, June 16, 2005.

Docket Numbers: ER05-1024-000.

Applicants: PJM Interconnection, L.L.C.

Description: PJM Interconnection, L.L.C. submits an executed interconnection service agreement with Eastern Landfill Gas, LLC and Baltimore Gas and Electric Company under ER05-1024.

Filed Date: 5/25/2005.

Accession Number: 20050531-0130.

Comment Date: 5 p.m. Eastern Time on Wednesday, June 15, 2005.

Docket Numbers: ER05-1025-000.

Applicants: California Independent System Operator Corporation.

Description: California Independent System Operator Corporation submits Amendment No. 70 to its ISO Tariff under ER05-1025.

Filed Date: 5/25/2005.

Accession Number: 20050531-0131.

Comment Date: 5 p.m. Eastern Time on Wednesday, June 15, 2005.

Docket Numbers: ER05-1026-000.

Applicants: American Electric Power Services Corporation.

Description: American Electric Power Service Corporation on behalf of the AEP Eastern Operating Companies submits a letter agreement, dated 4/28/05, to the Amended & Restated Cost Allocation Agreement with Buckeye Power, Inc under ER05-1026.

Filed Date: 5/26/2005.

Accession Number: 20050531-0129.

Comment Date: 5 p.m. Eastern Time on Thursday, June 16, 2005.

Docket Numbers: ER98-1150-005; EL05-87-001.

Applicants: Tucson Electric Power Company.

Description: Tucson Electric Power Co submits the second of two filings in compliance with FERC's 4/14/05 Order, an updated generation market power analysis under ER98-1150 et al.

Filed Date: 5/25/2005.

Accession Number: 20050531-0125.

Comment Date: 5 p.m. Eastern Time on Wednesday, June 15, 2005.

Docket Numbers: ER99-2251-003; ER99-2252-004; ER98-2491-009; ER97-705-014; ER02-2080-003; ER02-2546-004; ER99-3248-006; ER99-1213-004 and ER01-1526-004.

Applicants: Consolidated Edison Company of New York, Inc., et al. Description: ConEdison Companies submits amendments to their market-based rate tariff, in accordance with FERC's May 5, 2005 Order under ER99-2251 et al.

Filed Date: 5/25/2005.

Accession Number: 20050527-0023.

Comment Date: 5 p.m. Eastern Time on Wednesday, June 15, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please email FERCOnlineSupport@ferc.gov. or call (866) 208-3676 (toll free). For TTY, call (202) 502-8659.

Linda Mitry,
Deputy Secretary.

[FR Doc. E5-2882 Filed 6-6-05; 8:45 am]

BILLING CODE 6717-01-P